DEPARTMENT OF VETERANS AFFAIRS

[OMB Control No. 2900-0212]

Agency Information Collection Activity Under OMB Review: Veterans Mortgage Life Insurance Statement

AGENCY: Veterans Benefits Administration, Department of Veterans Affairs.

ACTION: Notice.

SUMMARY: In compliance with the Paperwork Reduction Act (PRA) of 1995, this notice announces that the Veterans Benefits Administration, Department of Veterans Affairs, will submit the collection of information abstracted below to the Office of Management and Budget (OMB) for review and comment. The PRA submission describes the nature of the information collection and its expected cost and burden and it includes the actual data collection instrument.

DATES: Written comments and recommendations for the proposed information collection should be sent within 30 days of the publication of this notice to www.reginfo.gov/public/do/PRAMain. Find this particular information collection by selecting “Currently Under 30-day Review—Open for Public Comments” or by using the search function. Refer to “OMB Control No. 2900-0212”.

FOR FURTHER INFORMATION CONTACT: Danny S. Green, Enterprise Records Service (005R1B), Department of Veterans Affairs, 811 Vermont Avenue NW, Washington, DC 20420, (202) 421-1354 or email danny.green2@va.gov. Please refer to “OMB Control No. 2900-0212” in any correspondence.

SUPPLEMENTARY INFORMATION: Authority: Public Law 104-13; 44 U.S.C. 3501-3521.

Title: Veterans Mortgage Life Insurance Statement, VA Form 29-8636.

OMB Control Number: 2900-0212.

Type of Review: Reinstatement of a previously approved collection.

Abstract: This form is used by veterans who have Specially Adapted Housing Grants to decline VMLI. The information on the form is required by law, 38 U.S.C. Section 806. Federal Register Notice with a 60-day comment period soliciting comments on this collection of information was published at 85 FR 206 on October 23, 2020, page 67609.

Affected Public: Individuals and Households.

Estimated Annual Burden: 250 hrs.

Estimated Average Burden per Respondent: 15 minutes.

Frequency of Response: One time.

Estimated Number of Respondents: 1,000.

By direction of the Secretary.
Danny S. Green,
VA PRA Clearance Officer, Office of Quality, Performance and Risk, Department of Veterans Affairs.

[FR Doc. 2020-28989 Filed 12-30-20; 8:45 am]

BILLING CODE 8320-01-P